DEPARTMENT OF THE INTERIOR

Bureau of Land Management

[CO-930-1430-ET; COC-1269]

Public Land Order No. 7516; Revocation of Oil Shale Withdrawals; Colorado

AGENCY: Bureau of Land Management, Interior.

ACTION: Public Land Order.

SUMMARY: This order revokes an Executive Order and a Public Land Order insofar as they affect the lands in the State of Colorado withdrawn for protection of oil shale values. This action will open approximately 900,000 acres of public lands to surface entry and mining. The lands have been and will remain open to mineral leasing.

EFFECTIVE DATE: April 15, 2002.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by Section 204(a) of the Federal Land Policy and Management Act of 1976, 43 U.S.C. 1714 (1994), it is ordered as follows:

1. Executive Order No. 5327, as amended, and Public Land Order No. 4522, as amended, which withdrew oil shale deposits and the public lands containing such deposits for the protection of oil shale and associated values are hereby revoked insofar as they affect all of the lands in the State of Colorado within the following Townships:

Sixth Principal Meridian

T. 3 N., R. 98 W., Tps. 2 N., Rs, 98, 99, and 100 W.; Tps. 1 N., Rs. 95, 96, 97, 98, 99, and 100 W.; Tps. 1 S., Rs. 94, 95, 96, 97, 98, 99, and 100 W.; Tps. 2 S., Rs. 94, 95, 96, 97, 98, 99, and 100 W.; Tps. 3 S., Rs. 94, 95, 96, 97, 98, 99, and 100 W.; Tps. 4 S., Rs. 94, 95, 96, 97, 98, 99, 100, and 101 W.; Tps. 5 S., Rs. 93, 94, 95, 96, 97, 98, 99, 100, and 101 W.; Tps. 6 S., Rs. 94, 95, 96, 97, 98, 99, 100, and 101 W.; Tps. 7 S., Rs. 95, 96, 97, 98, 99, 100, and 101 W.; Tps. 8 S., Rs. 99 and 100 W.

The areas described aggregate approximately 900,000 acres in Moffat, Rio Blanco, Garfield, and Mesa Counties.

2. At 9 a.m. on April 15, 2002, the lands identified in Paragraph 1 will be opened to the operation of the public land laws generally, subject to valid existing rights, the provisions of existing withdrawals, other segregations of record, and the requirements of applicable law. All valid applications received at or prior to 9 a.m. on April 15, 2002, shall be considered as simultaneously filed at that time. Those received thereafter shall be considered in the order of filing.

3. At 9 a. m. on April 15, 2002, the lands identified in Paragraph 1 will be opened to location and entry under the United States mining laws, subject to valid existing rights, the provisions of existing withdrawals, other segregations of record, and the requirements of applicable law. Appropriation of any of the lands identified in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: February 27, 2002.
J. Steven Griles,
Deputy Secretary.

[FR Doc. 02-6233 Filed 3-14-02; 8:45 am]

BILLING CODE 4310-JB-P